CORPORATION FOR NATIONAL AND COMMUNITY SERVICE

Guidance Document Portal; Correction

AGENCY: Corporation for National and Community Service.

ACTION: Notice; correction.

SUMMARY: The Corporation for National and Community Service published a Notice in the Federal Register of March 2, 2020, concerning notification of a Guidance Portal on the agency's public website, pursuant to Executive Order 13891 and OMB Memorandum M-20-02. The document gave the incorrect URL for the Guidance Portal.

FOR FURTHER INFORMATION CONTACT: Amy Borgstrom, aborgstrom@cns.gov or 202-606-6930.

SUPPLEMENTARY INFORMATION:

Correction

In the Federal Register of March 2, 2020, in FR Doc. 2020-04226, in the third column at the bottom of page 12270, in the ADDRESSES line, correct the information to read:

ADDRESSES: www.nationalservice.gov/guidance.

Dated: March 2, 2020.
Amy Borgstrom,
Associate Director of Policy.

[FR Doc. 2020-04569 Filed 3-5-20; 8:45 am]

BILLING CODE 6050-$$-P